DEPARTMENT OF THE INTERIOR

Fish and Wildlife Service

50 CFR Part 17

RIN 1018-AG12

Endangered and Threatened Wildlife and Plants; Extension of Public Comment Period and Notice of Availability of Draft Economic Analysis for Proposed Critical Habitat Determination for the Arkansas River Basin Population of the Arkansas River Shiner

AGENCY: Fish and Wildlife Service, Interior.

ACTION: Proposed Rule; Extension of public comment period and notice of availability of draft economic analysis.

SUMMARY: We, the U.S. Fish and Wildlife Service, announce the availability of the draft economic analysis for the proposed designation of critical habitat for the Arkansas River basin population of the Arkansas River shiner (Notropis girardi). We also provide notice that the public comment period for the proposal is extended to allow all interested parties to submit written comments on the proposal and the draft economic analysis. Comments previously submitted during the comment period need not be resubmitted as they will be incorporated into the public record and will be fully considered in the final determination on the proposal.

DATES: The original comment period is scheduled to close on August 29, 2000. The comment period is hereby extended until October 16, 2000. Comments from all interested parties must be received by the closing date. Any comments that are received after the closing date may not be considered in the final decision on this proposal.

ADDRESSES: Copies of the draft economic analysis are available on the Internet at http://ifw2es.fws.gov/oklahoma/ or by writing to the Field Supervisor, Ecological Services Field Office, 222 South Houston, Suite A, Tulsa, Oklahoma 74127-8909. All written comments should be submitted to the Field Supervisor at the above address. Comments and materials received will be available for public inspection, by appointment, during normal business hours at the above address.

FOR FURTHER INFORMATION CONTACT: Ken Collins, Fish and Wildlife Biologist, at the above address (telephone 918/581-7458 ext. 230).

SUPPLEMENTARY INFORMATION:

Background

The Arkansas River shiner (ARS) is a small, robust minnow. The ARS was historically widespread and abundant in the main channels of wide, shallow, sandy-bottomed rivers and larger streams throughout the western portion of the Arkansas River basin in Kansas, New Mexico, Oklahoma, and Texas. Adults are uncommon in quiet pools or backwaters, and almost never occur in tributaries having deep water and bottoms of mud or stone. This species has disappeared from over 80 percent of its historical range and is now almost entirely restricted to about 820 kilometers (508 miles) of the Canadian River in Oklahoma, Texas, and New Mexico.

The Arkansas River basin population of the ARS was federally listed as a threatened species under the Endangered Species Act of 1973, as amended (Act) in November, 1998, due to modification of the duration and timing of stream flows and inundation by impoundments; channel desiccation by water diversion and groundwater mining; stream channelization; and introduction of non-native species (63 FR 64772). On June 30, 2000, we proposed in the Federal Register approximately 1,866 kilometers (1,160 miles) of rivers and 91.4 meters (300 feet) of their adjacent riparian zones as critical habitat for the ARS (65 FR 40576). The proposal includes portions of the Arkansas River in Kansas, the Cimarron River in Kansas and Oklahoma, the Beaver/North Canadian River in Oklahoma, and the Canadian/South Canadian River in New Mexico, Texas, and Oklahoma.

Section 4(b)(2) of the Act requires that we designate or revise critical habitat based upon the best scientific and commercial data available and after taking into consideration the economic impact, and any other relevant impact, of specifying any particular area as critical habitat. We may exclude an area from critical habitat if we determine that the benefits of excluding the area outweigh the benefits of including the area as critical habitat, provided such exclusion will not result in the extinction of the species. Consequently, we have prepared a draft economic analysis concerning the proposed critical habitat designation, which is available for review and comment at the above Internet and mailing addresses.

Public Comments Solicited

We solicit comments on the draft economic analysis described in this notice, as well as any other aspect of the proposed designation of critical habitat for the Arkansas River basin population of the Arkansas River shiner. Our final determination on the proposed critical habitat will take into consideration comments and any additional information received by the date specified above. All previous comments and information submitted during the comment period need not be resubmitted. The comment period is extended to October 16, 2000. Written comments may be submitted to the Field Supervisor at the above address.

Author

The primary author of this notice is Ken Collins, U.S. Fish and Wildlife Service (see ADDRESSES).

Authority

The authority for this action is the Endangered Species Act of 1973 (16 U.S.C. 1531 et seq.).

Dated: August 3, 2000.
Renne Lohoefener,
Regional Director, Region 2, Fish and Wildlife Service.

[FR Doc. 00-20646 Filed 8-14-00; 8:45 am]

BILLING CODE 4310-55-P